DEPARTMENT OF HOMELAND SECURITY

U.S. Customs and Border Protection

[Docket No. USCBP-2010-0013]

Notice of Meeting of the Advisory Committee on Commercial Operations of Customs and Border Protection (COAC)

AGENCY: U.S. Customs and Border Protection, Department of Homeland Security (DHS).

ACTION: Notice of Federal Advisory Committee meeting.

SUMMARY: The Advisory Committee on Commercial Operations of U.S. Customs and Border Protection (COAC) will meet on May 11, 2010 in Philadelphia, Pennsylvania. The meeting will be open to the public.

DATES: COAC will meet Tuesday, May 11, 2010 from 1 p.m.-5 p.m. Please note that the meeting may close early if the committee completes its business. If you plan on attending, please register either online at https://apps.cbp.gov/te_registration/?w=18, or by e-mail to tradeevents@dhs.gov by close-of-business on May 6, 2010.

ADDRESSES: The meeting will be held at the Loews Philadelphia Hotel, 1200 Market Street, Regency Ballroom A, Philadelphia, Pennsylvania 19107. The public is invited to submit comments and/or written material on any of the identified agenda items as set forth below. Please note that any comments or written materials that are mailed should reach the contact person at the address listed below before May 6, 2010, so that copies of your submitted materials can be distributed to committee members prior to the meeting. Comments must be identified by USCBP-2010-0013 and may be submitted by one of the following methods:

• Federal eRulemaking Portal: http://www.regulations.gov. Follow the instructions for submitting comments.

• E-mail: tradeevents@dhs.gov. Include the docket number in the subject line of the message.

• Fax: 202-325-4290.

• Mail: Ms. Wanda Tate, Office of Trade Relations, U.S. Customs and Border Protection, Department of Homeland Security, 1300 Pennsylvania Avenue, NW.; Room 5.2-A, Washington, DC 20229.

Instructions: All submissions received must include the words “Department of Homeland Security” and the docket number for this action. Comments received will be posted without alteration at http://www.regulations.gov, including any personal information provided.

Docket: For access to the docket to read background documents or comments received by COAC, go to http://www.regulations.gov.

FOR FURTHER INFORMATION CONTACT: Ms. Wanda Tate, Office of Trade Relations, U.S. Customs and Border Protection, Department of Homeland Security, 1300 Pennsylvania Avenue, NW., Room 5.2-A, Washington, DC 20229; tradeevents@dhs.gov; telephone 202-344-1440; facsimile 202-325-4290.

SUPPLEMENTARY INFORMATION: Pursuant to the Federal Advisory Committee Act (5 U.S.C. App.), DHS hereby announces the meeting of the Advisory Committee on Commercial Operations of Customs and Border Protection (COAC). COAC is tasked with providing advice to the Secretary of Homeland Security, the Secretary of the Treasury, and the Commissioner of U.S. Customs and Border Protection (CBP) on matters pertaining to the commercial operations of CBP and related functions within DHS or the Department of the Treasury.

The fifth meeting of the eleventh term of COAC will be held at the date, time and location specified above. A tentative agenda for the meeting is set forth below.

Tentative Agenda

1. Importer Security Filing (“10+2”).

2. Intellectual Property Rights Enforcement Subcommittee.

3. Agriculture Subcommittee.

4. Air Cargo Security Subcommittee.

5. Automation Subcommittee.

6. Import Safety.

7. Bond Subcommittee.

8. Trade Facilitation Subcommittee.

Procedural

This meeting is open to the public; however, participation in COAC deliberations is limited to committee members, Department of Homeland Security officials, and persons invited to attend the meeting for special presentations. Please note that the meeting may close early if all business is finished.

All visitors must check-in at the Loews Philadelphia Hotel at the Regency Ballroom A with CBP officials at the registration desk.

Since seating is limited, all persons attending this meeting should provide notice by close-of-business on May 6, 2010, by registering online at https://apps.cbp.gov/te_registration/?w=18 or, alternatively, by contacting Ms. Wanda Tate, Office of Trade Relations, U.S. Customs and Border Protection, Department of Homeland Security, 1300 Pennsylvania Avenue, NW., Washington, DC 20229; tradeevents@dhs.gov; telephone 202-344-1440; facsimile 202-325-4290.

Information on Services for Individuals With Disabilities

For information on facilities or services for individuals with disabilities or to request special assistance at the meeting, contact Ms. Wanda Tate as soon as possible.

Dated: April 9, 2010.
Kimberly Marsho,
Director, Office of Trade Relations, U.S. Customs and Border Protection.

[FR Doc. 2010-8597 Filed 4-14-10; 8:45 am]

BILLING CODE 9111-14-P